OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, (202) 606-2246.

SUPPLEMENTARY INFORMATION: Appearing in the listing below are the individual authorities established under Schedules A, B, and C between September 1, 2011, and September 30, 2011. These notices are published monthly in the Federal Register at http://www.gpoaccess.gov/fr/. A consolidated listing of all authorities as of September 30 is also published each year. The following Schedules are not codified in the Code of Federal Regulations. These are agency-specific exceptions.

Schedule A

No Schedule A authorities to report during September 2011.

Schedule B

No Schedule B authorities to report during September 2011.

Schedule C

The following Schedule C appointments were approved during September 2011.

Agency name | Organization name | Position title | Authorization No. | Effective date
Department of Agriculture | Office of the Under Secretary for Food Safety | Special Assistant | DA110121 | 9/21/2011
Department of Commerce | Assistant Secretary and Director General for United States and Foreign Commercial Service | Executive Assistant | DC110120 | 9/2/2011
| Economics and Statistics Administration | Special Assistant | DC110124 | 9/22/2011
| Office of the General Counsel | Senior Advisor | DC110128 | 9/26/2011
| Office of the Chief of Staff | Advance Specialist | DC110119 | 9/2/2011
| Office of the Under Secretary | Special Assistant | DC110121 | 9/8/2011
| Office of the Under Secretary | Confidential Assistant and Scheduler | DC110136 | 9/30/2011
| Office of Business Liaison | Deputy Director, Office of Business Liaison | DC110132 | 9/29/2011
| Office of the General Counsel | Deputy General Counsel for Strategic Initiatives | DC110125 | 9/23/2011
Department of Defense | Office of Assistant Secretary of Defense (Public Affairs) | Speechwriter | DD110122 | 9/19/2011
| Office of the Secretary | Confidential Assistant | DD110125 | 9/7/2011
Department of Education | Office of the Secretary | Confidential Assistant | DB110122 | 9/26/2011
| Office of the Secretary | Special Assistant | DB110115 | 9/19/2011
| Office of Vocational and Adult Education | Special Assistant | DB110119 | 9/9/2011
| Office of the Deputy Secretary | Confidential Assistant | DB110116 | 9/9/2011
| Office of Planning, Evaluation and Policy Development | Deputy Assistant Secretary for Planning and Policy Development | DB110118 | 9/23/2011
Department of Energy | Loan Programs Office | Special Advisor, Front-End Nuclear | DE110137 | 9/15/2011
| Office of Fossil Energy | Senior Advisor | DE110140 | 9/16/2011
Environmental Protection Agency | Office of the Associate Administrator for External Affairs and Environmental Education | Press Secretary | EP110047 | 9/13/2011
| Office of the Associate Administrator for External Affairs and Environmental Education | Deputy Associate Administrator for the Office of External Affairs and Environmental Education | EP110046 | 9/14/2011
Export-Import Bank | Export-Import Bank | Director of Scheduling | EB110011 | 9/2/2011
| Export-Import Bank | Deputy Chief of Staff | EB110012 | 9/23/2011
Department of Health and Human Services | Office of Intergovernmental and External Affairs | Special Assistant | DH110137 | 9/23/2011
| Office of Intergovernmental and External Affairs | Director of Business Outreach | DH110139 | 9/23/2011
| Office of Intergovernmental and External Affairs | Confidential Assistant | DH110130 | 9/21/2011
| Health Resources and Services Administration Office of the Administrator | Special Assistant | DH110128 | 9/13/2011
Department of Homeland Security | Office of the Chief of Staff | Deputy Director of Scheduling | DM110246 | 9/1/2011
| Office of the Assistant Secretary for Policy | Chief of Staff | DM110253 | 9/9/2011
| U.S. Citizenship and Immigration Services | Special Assistant | DM110272 | 9/28/2011
| U.S. Citizenship and Immigration Services | Senior Counselor | DM110262 | 9/9/2011
| U.S. Customs and Border Protection | Policy Advisor | DM110255 | 9/8/2011
| Office of the Assistant Secretary for Public Affairs | Deputy Press Secretary | DM110252 | 9/1/2011
Department of the Interior | Office of Congressional and Legislative Affairs | Deputy Director, Office of Congressional and Legislative Affairs | DI110086 | 9/26/2011
| Bureau of Safety and Environmental Enforcement | Senior Advisor | DI110089 | 9/28/2011
Department of Justice | Office of the Deputy Attorney General | Senior Counsel | DJ110120 | 9/22/2011
Department of Labor | Wage and Hour Division | Special Assistant | DL110058 | 9/9/2011
| Office of the Secretary | Deputy Director of Recovery for Auto Communities and Workers | DL110059 | 9/9/2011
| Office of Congressional and Intergovernmental Affairs | Legislative Officer | DL110042 | 9/7/2011
| Office of Congressional and Intergovernmental Affairs | Legislative Officer | DL110041 | 9/7/2011
| Office of Congressional and Intergovernmental Affairs | Deputy Director of Intergovernmental Affairs | DL110040 | 9/7/2011
| Office of the Assistant Secretary for Policy | Policy Advisor | DL110057 | 9/21/2011
National Aeronautics and Space Administration | Office of Communications | Press Secretary | NN110060 | 9/22/2011
| Office of General Counsel | Special Assistant | NN110062 | 9/29/2011
Office of Management and Budget | Office of Federal Financial Management | Confidential Assistant | BO110033 | 9/9/2011
| Office of the Director | Confidential Assistant | BO110034 | 9/22/2011
Office of Personnel Management | Office of Communications and Public Liaison | Strategic Communications Specialist | PM110023 | 9/6/2011
Pension Benefit Guaranty Corporation | Office of the Executive Director | Deputy Director for Policy | BG110007 | 9/26/2011
Small Business Administration | Office of Communications and Public Liaison | Special Advisor for Public Liaison | SB110049 | 9/9/2011
| Office of the Administrator | Special Assistant | SB110050 | 9/23/2011
Department of State | Office of the Chief of Protocol | Assistant Chief for Diplomatic Partnerships | DS110126 | 9/2/2011
| Bureau of Public Affairs | Deputy Assistant Secretary for Digital Media | DS110129 | 9/2/2011
| Office of the Chief of Protocol | Protocol Officer (Visits) | DS110130 | 9/29/2011
| Bureau of Economic, Energy and Business Affairs | Special Assistant | DS110131 | 9/19/2011
| Office of the Under Secretary for Political Affairs | Staff Assistant | DS110134 | 9/23/2011
Department of Transportation | Secretary | Scheduler | DT110056 | 9/26/2011
| Secretary | Associate Director for Scheduling and Advance | DT110055 | 9/23/2011
| Assistant Secretary for Governmental Affairs | Associate Director for Governmental Affairs | DT110053 | 9/2/2011
Department of the Treasury | Under Secretary for Domestic Finance | Senior Advisor | DY110139 | 9/9/2011
| Secretary of the Treasury | Senior Advisor | DY110138 | 9/9/2011
| Assistant Secretary (Economic Policy) | Special Assistant | DY110134 | 9/7/2011

Authority: 5 U.S.C. 3301 and 3302; E.O. 10577, 3 CFR 1954-1958 Comp., p. 218.

U.S. Office of Personnel Management.
John Berry,
Director.

[FR Doc. 2011-31220 Filed 12-5-11; 8:45 am]

BILLING CODE 6325-39-P